DEPARTMENT OF THE INTERIOR

Bureau of Indian Affairs

[178A2100DD/AAKC001030/A0A501010.999900 253G]

Proclaiming Certain Lands as Reservation for the Confederated Tribes of the Chehalis Reservation

AGENCY: Bureau of Indian Affairs, Interior.

ACTION: Notice.

SUMMARY: This notice informs the public that the Principal Deputy Assistant Secretary—Indian Affairs proclaimed approximately 359.11 acres, more or less, an addition to the reservation of the Confederated Tribes of the Chehalis Reservation of Washington.

FOR FURTHER INFORMATION CONTACT: Ms. Sharlene Round Face, Bureau of Indian Affairs, Division of Real Estate Services, 1849 C Street NW., MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. These lands are proclaimed to be part of the Confederated Tribes of the Chehalis Reservation, in Grays Harbor County and Thurston County, Washington.

Willamette Meridian

Grays Harbor County and Thurston County, Washington

Legal Description Containing 359.11 Acres, More or Less

Bale Parcel

That portion of the Southeast Quarter of the Northeast Quarter AND of the Northeast Quarter of the Southeast Quarter of Section 32, Township 16 North, Range 4 West of the Willamette Meridian, described as follows:

Commencing at a point 26 chains and 64 links North of the Southeast corner of Section 32, said Township and Range, which point is identical with the Southeast corner of the Roundtree Donation Land Claim No. 39;

Thence running North on the Section line between Sections 32 and 33, 27 chains and 40 links;

Thence West 18 chains and 25 links; Thence South 9 chains and 99 links;

Thence North 84° West 2 chains and 4 links;

Thence South 17 chains and 10 links, more or less, to the South line of The Roundtree Donation Land Claim No. 39;

Thence East 20 chains and 31 links to the point of beginning;

EXCEPT that portion lying North of the Elma-Gate Road; ALSO EXCEPT Elma-Gate Road and Howanut Road; Situated in the County of Grays Harbor, State of Washington. Containing 27.92 acres, more or less.

Porter Parcel

PARCEL A: Government Lots 8, 9, 10 and that portion of Government Lot 11 lying Easterly of a certain unnamed slough: Situate in Section 28, Township 17 North, Range 5 West of the Willamette Meridian; Situate in the County of Grays Harbor, State of Washington.

PARCEL A-1: A perpetual non-exclusive easement 30 feet in width for ingress and egress over, under and across a portion of Government Lot 11 in Section 28, Township 17 North, Range 5 West of the Willamette Meridian, as disclosed by document recorded August 30, 1984, under Auditor's File No. 840830001, records of Grays Harbor County; Situated in the County of Grays Harbor, State of Washington.

PARCEL B: Government Lot 12 and Government Lot 13; AND the Southwest Quarter of the Southwest Quarter East of South Bank County Road;

EXCEPT that portion conveyed to Sharon Grange No. 800, Patrons of Husbandry, by Quit Claim Deed, recorded January 2, 1953, under Auditor's File No. 557826, more particularly described as follows:

Beginning at a point where the North line of the Southwest Quarter of the Southwest Quarter intersects the East line of the County Road;

Thence Northwesterly along the East line of said road 170 feet;

Thence East 334 feet;

Thence South 272 feet;

Thence West 212 feet, more or less, to the East line of said County Road;

Thence Northwesterly along said East line 127 feet, more or less, to the point of beginning; (Also known as the Sharon Cemetery); Situated in Section 28, Township 17 North, Range 5 West of the Willamette Meridian;

ALSO EXCEPT a portion of the Southwest Quarter of the Southwest Quarter of Section 28, Township 17 North, Range 5 West of the Willamette Meridian, described as follows:

Commencing at the intersection of the North line of said Southwest quarter and the East line of South Bank County Road and the true point of beginning;

Thence South 87°07′28″ East along said line a distance of 276.95 feet;

Thence South 2°52′33″ West a distance of 146.38 feet;

Thence North 87°07′27″ West a distance of 201.39 feet to the East line of said road;

Thence Northwesterly along said line a distance of 164.73 feet to the true point of beginning;

EXCEPT that portion of Sharon Cemetery conveyed under Quit Claim Deed recorded January 2, 1953, under Auditor's File No. 557826 lying in said Southwest Quarter;

Situated in the County of Grays Harbor, State of Washington.

PARCEL C: The North Half of Government Lot 3, And the North Half of the Northeast Quarter of the Northwest Quarter in Section 33, Township 17 North, Range 5 West of the Willamette Meridian;

EXCEPT the Southerly 50 feet thereof; ALSO EXCEPT South Bank County Road;

Situated in the County of Grays Harbor, State of Washington. Containing 158.41 acres, more or less.

Pearson Road Parcel

Parcel Number 160434320080—Lot 3 of that certain Short Subdivision Application SSA No. 77-5 in Volume 2 of Short Plats, pages 18 and 19, recorded January 31, 1978, under Auditor's File No. 119666, records of Grays Harbor County;

(Being a portion of the Northwest Quarter of the Southwest Quarter of Section 34, Township 16 North, Range 4 West of the Willamette Meridian);

Except that portion conveyed to Grays Harbor County for right-of-way as disclosed by Microfilm No. 78 02095, records of Grays Harbor County; Situated in the County of Grays Harbor, State of Washington. Containing 1.96 acres, more or less.

Parcel Number 160434320010—Lot 1 of that certain Short Subdivision Application SSA No. 77-5 in Volume 2 of Short Plats, pages 18 and 19, recorded January 31, 1978, under Auditor's File 119666, records of Grays Harbor County; (Being a portion of the Northwest Quarter of the Southwest Quarter of Section 34, Township 16 North, Range 4 West of the Willamette Meridian).

Situated in the County of Grays Harbor, State of Washington. Containing 9.96 acres, more or less.

Parcel Number 160433410020—That portion of the Northeast Quarter of the Southeast Quarter of Section 33, Township 16 North, Range 4 West of the Willamette Meridian, lying South of State Highway No. 12;

TOGETHER WITH that portion of the Southeast Quarter of the Southeast Quarter of said Section 33 described as follows:

Beginning at the Southeast corner of said Northeast Quarter of the Southeast Quarter;

Thence South 89°24′34″ West along the South line of said Northeast Quarter of the Southeast Quarter a distance of 553.44 feet;

Thence South 58°17′13″ East a distance of 654.93 feet;

Thence North 00°36′38″ West along East line of said Section 33 a distance of 75.79 feet;

Thence South 89°35′59″ West a distance of 100.00 feet;

Thence North 00°36′38″ West a distance of 217.80 feet;

Thence North 89°35′59″ East a distance of 100.00 feet to the East line of said Section 33;

Thence North 00°36′38″ West a distance of 56.41 feet to the point of beginning;

EXCEPT that portion thereof lying West of Black River, AND EXCEPT County Road;

ALSO EXCEPTING THEREFROM that portion of the Northeast Quarter of the Southeast Quarter of said Section 33 described as follows:

Beginning at the Southwest corner of said Northeast Quarter of the Southeast Quarter;

Thence North 89°24′34″ East along the South line of said Northeast Quarter of the Southeast Quarter a distance of 775.66 feet;

Thence North 58°17′13″ West a distance of 916.40 feet to the West line of said Northeast Quarter of the Southeast Quarter;

Thence South 00°27′46″ East along the West line of said Northeast Quarter of the Southeast Quarter a distance of 489.73 feet to the point of beginning;

(Also known as Parcel A of Boundary Line Adjustment recorded April 29, 2008, under Auditor's File No. 2008-04290002, records of Grays Harbor County); Situated in the County of Grays Harbor, State of Washington. Containing 30.64 acres, more or less.

Parcel Number 160433440010—The Southeast Quarter of the Southeast Quarter in Section 33, Township 16 North, Range 4 West of the Willamette Meridian, lying Easterly of the Black River;

ALSO that portion of the Southeast Quarter of the Southwest Quarter of the Southeast Quarter lying South and East of Black River in Section 33, Township 16 North, Range 4 West of the Willamette Meridian;

ALL Situated in the County of Grays Harbor, State of Washington.

TOGETHER WITH that portion of the Northeast Quarter of the Southeast Quarter of said Section 33 described as follows:

Beginning at the Southwest corner of said Northeast Quarter of the Southeast Quarter;

Thence North 89°24′34″ East along the South line of said Northeast Quarter of the Southeast Quarter a distance of 775.66 feet;

Thence North 58°17′13″ West a distance of 916.40 feet to the West line of said Northeast Quarter of the Southeast Quarter;

Thence South 00°27′46″ East along the West line of said Northeast Quarter of the Southeast Quarter a distance of 489.73 feet to the point of beginning;

EXCEPT the East 100 feet of the North 217.8 feet of the South 1,270 feet thereof; ALSO EXCEPT Road;

ALSO EXCEPTING THEREFROM that portion of the Southeast Quarter of the Southeast Quarter of said Section 33 described as follows;

Beginning at the Southeast corner of said Northeast Quarter of the Southeast Quarter;

Thence South 89°24′34″ West along the South line of said Northeast Quarter of the Southeast Quarter a distance of 553.44 feet;

Thence South 58°17′13″ East a distance of 654.93 feet;

Thence North 00°36′38″ West along East line of said Section 33 a distance of 75.79 feet;

Thence South 89°35′59″ West a distance of 100.00 feet;

Thence North 00°36′38″ West a distance of 217.80 feet;

Thence North 89°35′59″ East a distance of 100.00 feet to the East line of said Section 33;

Thence North 00°36′38″ West a distance of 56.41 feet to the point of beginning;

(Also known as Parcel B of Boundary Line Adjustment recorded April 29, 2008, under Auditor's File No. 2008-04290002, records of Grays Harbor County); Situated in the County of Grays Harbor, State of Washington. Containing 39.07 acres, more or less. Totaling 81.63 acres, more or less.

Mae Palmer Parcel

A tract of land beginning at the Northwest corner of the Southeast Quarter of the Southwest Quarter of the Southwest Quarter of Section 30, Township 16 North, Range 4 West of the Willamette Meridian;

Thence Easterly along the North line of said Southeast Quarter of the Southwest Quarter of the Southwest Quarter of said Section a distance of 13 ⅓ Rods;

Thence South 24 Rods;

Thence West 13 ⅓ Rods to a point on the West line of the said Southeast Quarter;

Thence North along said West line 24 Rods to the place of beginning;

EXCEPT: Commencing at the Southwest corner of said North 24 rods of the Southeast Quarter of the Southwest Quarter of the Southwest Quarter, Section 30, Township 16 North, Range 4 West of the Willamette Meridian;

Thence South 89°24′04″ East along the South line a distance of 194.86 feet to the true point of beginning;

Thence North 44°47′25″ East a distance of 35.72 feet;

Thence South 00°07′39″ West a distance of 25.09 feet;

Thence North 89°24′04″ West a distance of 25.11 feet to the true point of beginning;

Situated in the County of Grays Harbor, State of Washington. Containing 1.99 acres, more or less.

Washington Business Bank Parcel

That part of the East half of the Southeast Quarter of Section 35, Township 16 North, Range 4 West, W.M., lying southerly of Primary State Highway No. 9;

EXCEPTING THEREFROM tract described as beginning at the intersection of the southerly line of said Primary State Highway No. 9 with the east line of said Section and running thence south along said east line 235 feet, more or less, to a point 200 feet south of the Northeast corner of the southeast quarter of said southeast quarter,

Thence west 160 feet and north 250 feet, more or less, to said southerly line of highway and thence southeasterly along said southerly line of highway to the point of beginning of this exception;

AND EXCEPTING Moon Road and Tapio Road (183rd Avenue); ALSO EXCEPTING that portion conveyed to the State of Washington in Deed recorded March 31, 1999, under Auditor's File No. 3221252 and those portions conveyed to Thurston County by Deeds recorded October 10, 2002, and August 12, 2003, under respective Auditor's File Nos. 3468517 and 3562206. Situated in Thurston County, Washington. Containing 40.80 acres, more or less.

Andrews Parcel

Tract 12 and that part of Tract 9 of Farmdale Addition to Gate City, as recorded in Volume 6 of Plats, page 19, lying South of Rochester Grand Mound Highway;

TOGETHER WITH vacated street lying between said tracts and that part of vacated street adjoining Tract 9 on the East. In Thurston County, Washington.

Containing 48.36 acres, more or less.

The above-described lands contain a total of 359.11 acres, more or less, which are subject to all valid rights, reservations, rights-of-way, and easements of record.

This proclamation does not affect title to the lands described above, nor does it affect any valid existing easements for public roads and highways, public utilities and for railroads and pipelines, and any other valid easements or rights-of-way or reservations of record.

Dated: October 28, 2016.
Lawrence S. Roberts,
Principal Deputy Assistant Secretary—Indian Affairs.

[FR Doc. 2016-26858 Filed 11-4-16; 8:45 am]

BILLING CODE 4337-15-P